DEPARTMENT OF COMMERCE

International Trade Administration

[A-533-810]

Stainless Steel Bar From India: Preliminary Determination of No Shipments and Partial Rescission of the Antidumping Duty Administrative Review; 2016-2017

AGENCY: Enforcement and Compliance, International Trade Administration, Department of Commerce.

SUMMARY: In response to requests from interested parties, the Department of Commerce (the Department) is conducting an administrative review of the antidumping duty order on stainless steel bar (SSB) from India. The period of review (POR) is February 1, 2016, through January 31, 2017. This review covers two producers or exporters of the subject merchandise: Ambica Steels Limited (Ambica), and Bhansali Bright Bars Pvt. Ltd. (Bhansali). We preliminarily determine that Bhansali and Ambica had no shipments of subject merchandise during the POR. Interested parties are invited to comment on these preliminary results.

DATES: Applicable: November 7, 2017.

FOR FURTHER INFORMATION CONTACT: Mark Kennedy, AD/CVD Operations, Office I, Enforcement and Compliance, International Trade Administration, U.S. Department of Commerce, 1401 Constitution Avenue NW., Washington DC 20230; telephone: (202) 482-7883.

SUPPLEMENTARY INFORMATION:

Scope of the Order

The merchandise subject to the order is SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

Imports of these products are currently classifiable under subheadings 7222.10.00, 7222.11.00, 7222.19.00, 7222.20.00, 7222.30.00 of the Harmonized Tariff Schedule (HTS). Although the HTS subheadings are provided for convenience and customs purposes, our written description of the scope of the Order is dispositive.

Background

Carpenter Technology Corporation, Crucible Industries LLC, Electralloy, a Division of G,O, Carlson, Inc., North American Stainless, Universal Stainless & Alloy Products, Inc., and Valbruna Slater Stainless, Inc. (the petitioners) timely requested an administrative review of Ambica, Bhansali, and Ambica Stainless Steel Limited (now known as Aamor Inox Limited) (ASSL).¹ As such, the Department published in the Federal Register a notice of initiation of this administrative review of the antidumping duty order on SSB from India for Ambica and Bhansali.²

¹ See Letter to the Department from the petitioners, “Stainless Steel Bar from India: Petitioners' Request for 2016/17 Administrative Review,” dated February 28, 2017. Although the petitioners stated that “Ambica Stainless Steel Limited” is “now known as Aamor Inox Limited,” the Department has not determined that Aamor Inox Limited is the successor in interest to Ambica Stainless Steel Limited.

² See “Initiation of Antidumping and Countervailing Duty Administrative Reviews,” 82 FR 17188 (April 10, 2017) (Initiation Notice).

Partial Rescission of Administrative Review

Pursuant to 19 CFR 351.213(d)(1), the Department will rescind an administrative review, in whole or in part, if the parties that requested a review withdraw the request within 90 days of the date of publication of the notice of initiation. The petitioners timely withdrew their request for review of ASSL.³ No other party requested a review of this producer/exporter. Therefore, in accordance with 19 CFR 351.213(d)(1), the Department is rescinding this review of the AD order on SSB from the PRC with respect to ASSL.

³ See Letter from the petitioners, “Stainless Steel Bar from India—Petitioners' Request to Withdraw Request for Administrative Review of Ambica Stainless Steel Limited/Aamor Inox Limited,” dated April 24, 2017.

Preliminary Determination of No Shipments

We received timely certifications from Bhansali and Ambica reporting that they had no shipments of the subject merchandise to the United States during the POR and requested that the Department rescind the review with respect to it.⁴ As detailed in the Preliminary Decision Memorandum, the Department preliminarily determines that both Bhansali and Ambica had no shipments during the POR.⁵

⁴ See Letter from Bhansali, “Stainless Steel Bar products from India: Request for No Shipment letter during the Period of Review (POR),” dated March 9, 2017; see also Letter from Ambica Steels Limited, “Stainless Steel Bar—No Shipments In Period of Review (POR),” dated May 1, 2017.

⁵ For additional information and analysis, see the Preliminary Decision Memorandum.

Consistent with our practice, we will complete the review and issue appropriate instructions to CBP based on the final results of this review.⁶

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51306-307 (August 28, 2014).

Public Comment

Interested parties may submit case briefs no later than 30 days after the date of publication of the preliminary results.⁷ Rebuttal briefs, limited to the issues raised in the case briefs, may be filed no later than five days after the submission of case briefs.⁸ Parties who submit case briefs or rebuttal briefs in this proceeding are encouraged to submit with each argument: (1) A statement of the issue; (2) a brief summary of the argument; and (3) a table of authorities.⁹

⁷ See 19 CFR 351.309(c)(1)(ii); see also 19 CFR 351.303 (for general filing requirements).

⁸ See 19 CFR 351.309(d)(1).

⁹ See 19 CFR 351.309(c)(2) and (d)(2).

All submissions to the Department must be filed electronically using ACCESS, and must also be served on interested parties.¹⁰ An electronically filed document must be received successfully in its entirety by the Department's electronic records system, ACCESS, by 5:00 p.m. Eastern Time on the date that the document is due.

¹⁰ See 19 CFR 351.303(f).

Interested parties who wish to request a hearing must submit a written request to the Assistant Secretary for Enforcement and Compliance, U.S. Department of Commerce, using Enforcement and Compliance's ACCESS system within 30 days of publication of this notice.¹¹ Requests should contain (1) the party's name, address, and telephone number; (2) the number of participants; and (3) a list of the issues to be discussed. Issues raised in the hearing will be limited to those raised in the respective case briefs.

¹¹ See 19 CFR 351.310(c).

Unless the deadline is extended pursuant to section 751(a)(2)(B)(iv) of the Tariff Act of 1930 (the Act) and 19 CFR 351.213(h)(2), the Department intends to issue the final results of this administrative review, including the results of our analysis of the issues raised by the parties in their case and rebuttal briefs, within 120 days after the publication of these preliminary results, pursuant to section 751(a)(3)(A) of the Act and 19 CFR 351.213(h)(1).

Assessment of Antidumping Duties

We are rescinding this review for ASSL; in accordance with Department practice, we will instruct CBP to assess antidumping duties at the rates equal to the cash deposit of estimated antidumping duties required at the time of entry, or withdrawal from warehouse for consumption, in accordance with 19 CFR 351.212(c)(1)(i).

Upon issuance of the final results of this review, in accordance with the Department's practice, for entries of subject merchandise during the POR for which Ambica or Bhansali did not know that the merchandise was destined for the United States, we will instruct CBP to liquidate such entries at the all-others rate if there is no rate for the intermediate company(ies) involved in the transaction. We intend to issue instructions to CBP 15 days after the publication date of the final results of this review.

Cash Deposit Requirements

The following cash deposit requirements will be effective for all shipments of the subject merchandise entered, or withdrawn from warehouse, for consumption on or after the publication date of the final results of this administrative review, as provided by section 751(a)(2)(C) of the Act: (1) The cash deposit rate for Ambica and Bhansali will remain unchanged from the rate assigned to each company in the completed segment for the most recent period for each company; (2) for other producers and exporters covered in a prior segment of the proceeding, the cash deposit rate will continue to be the company-specific rate published for the completed segment for the most recent period of this proceeding in which that producer or exporter participated; (3) if the exporter is not a firm covered in this review, a prior review, or the original investigation, but the producer is, then the cash deposit rate will be the rate established for the completed segment for the most recent period of this proceeding for the producer of subject merchandise; and (4) the cash deposit rate for all other producers or exporters will continue to be 12.45 percent, the all-others rate established in the investigation.¹² These cash deposit requirements, when imposed, shall remain in effect until further notice.

¹² See Notice of Final Determination of Sales at Less Than Fair Value: Stainless Steel Bar from India, 59 FR 66915, 66921 (December 28, 1994).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results of administrative review in accordance with sections 751(a)(1) and 777(i)(1) of the Act.

Dated: October 31, 2017.
Gary Taverman,
Deputy Assistant Secretary for Antidumping and Countervailing Duty Operations, performing the non-exclusive functions and duties of the Assistant Secretary for Enforcement and Compliance.

[FR Doc. 2017-24172 Filed 11-6-17; 8:45 am]

BILLING CODE 3510-DS-P